DEPARTMENT OF TRANSPORTATION

Federal Aviation Administration

Proposed Advisory Circular; Instructions for Continued Airworthiness; Maintenance Tasks for High Intensity Radio Frequency (HIRF)/Electromagnetic Interference (EMI)/Lightning Protection Features

AGENCY: Federal Aviation Administration, DOT.

ACTION: Notice of availability of proposed advisory circular and request for comments.

SUMMARY: The Federal Aviation Administration (FAA) announces the availability of proposed advisory circular (AC) number 33.4-3, Instructions for Continued Airworthiness; Maintenance Tasks for High Intensity Radio Frequency (HIRF)/Electromagnetic Interference (EMI)/Lightning Protection Features.

DATES: Comments must be received on or before February 16, 2004.

ADDRESSES: Send all comments on the proposed AC to the Federal Aviation Administration, Attn: Gary Horan, Engine and Propeller Standards Staff, ANE-110, 12 New England Executive Park, Burlington, MA 01803-5299.

FOR FURTHER INFORMATION CONTACT: Gary Horan, Engine and Propeller Standards Staff, ANE-110, at the above address, telephone: (781) 238-7164; fax: (781) 238-7199; e-mail: gary.horan@faa.gov.

SUPPLEMENTARY INFORMATION:

Comments Invited

A copy of the subject AC may be obtained by contacting the person named under FOR FURTHER INFORMATION CONTACT or by downloading the proposed AC from the following Internet Web site: http://www.airweb.faa.gov/rgl. The FAA invites interested parties to comment on the proposed AC. Comments should identify the subject of the AC and be submitted to the individual identified under For Further Information Contact. The FAA will consider all communications received by the closing date before issuing the final AC.

Background

This AC provides guidance and methods, but not the only methods, that may be used to demonstrate compliance with § 33.4 of title 14 of the Code of Federal Regulations (14 CFR 33.4), Instructions for Continued Airworthiness. This AC provides maintenance tasks to ensure the integrity of HIRF/Lightning protection features.

(Authority: 49 U.S.C. 106(g), 40113, 44701-44702, 44704.)

Issued in Burlington, Massachusetts, on November 6, 2003.
Robert Guyotte,
Acting Manager, Engine and Propeller Directorate, Aircraft Certification Service.

[FR Doc. 03-28618 Filed 11-14-03; 8:45 am]

BILLING CODE 4910-13-M